DEPARTMENT OF STATE

[Public Notice 4666]

Redesignation of Foreign Terrorist Organizations

Pursuant to section 219 of the Immigration and Nationality Act, as amended, 8 U.S.C. 1189, the Secretary of State, in consultation with the Secretary of the Treasury and the Attorney General, hereby redesignates, effective March 22, 2004, the following three organizations as foreign terrorist organizations:

Al-Aqsa Martyrs Brigade, also known as the al-Aqsa Martyrs Battalion

Asbat al-Ansar

Salafist Group for Call and Combat, also known as the Salafist Group for Preaching and Combat, also known as GSPC, also known as Groupe Salafiste pour la Predication et le Combat.

Dated: March 15, 2004.
Cofer Black,
Coordinator for Counterterrorism, Department of State.

[FR Doc. 04-6333 Filed 3-19-04; 5:00 pm]

BILLING CODE 4710-10-P